DEPARTMENT OF HOMELAND SECURITY

Coast Guard

33 CFR Part 117

[Docket No. USCG-2014-0912]

Drawbridge Operation Regulation; Lake Washington Ship Canal, Seattle, WA

AGENCY: Coast Guard, DHS.

ACTION: Notice canceling temporary deviation from regulations.

SUMMARY: The Coast Guard is canceling the temporary deviation concerning the operating schedule that governs the Seattle Department of Transportation (SDOT) double leaf bascule Ballard Bridge across the Lake Washington Ship Canal, mile 1.1, at Seattle, WA. This deviation was necessary to accommodate evening detoured commute traffic during road construction. It is being cancelled due to the construction project has been completed.

DATES: The temporary deviation published on November 14, 2014, 78 FR 68120, is cancelled as of January 9, 2015.

ADDRESSES: The docket for this deviation, [USCG-2014-0912] is available at http://www.regulations.gov. Type the docket number in the “SEARCH” box and click “SEARCH.” Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email Steven Fischer, Coast Guard Thirteenth District, Bridge Specialist; telephone 206-220-7277, email d13-pf-d13bridges@uscg.mil. If you have questions on viewing the docket, call Cheryl Collins, Program Manager, Docket Operations, telephone 202-366-9826.

SUPPLEMENTARY INFORMATION:

A. Basis and Purpose

On November 14, 2014, we published a temporary deviation entitled “Drawbridge Operation Regulation; Lake Washington Ship Canal, Seattle, WA.” in the Federal Register (78 FR 68120). The temporary deviation concerned the Seattle Department of Transportation (SDOT) request that the Ballard Bridge, mile 1.1, across the Lake Washington Ship Canal accommodate evening detoured commute traffic during road construction. This deviation allowed the bridge to remain in the closed position for an extra hour during evening traffic. Vessels able to pass through the bridge in the closed positions may do so at anytime. The bridge would not be able to open during this construction period, and extend the daily closure one hour Monday through Friday. This deviation from the operating regulations was authorized under 33 CFR 117.35.

B. Cancellation

The deviation was intended to facilitate routing of heavy traffic during peak commute time on the bridge. The deviation is not necessary at this time because SDOT has completed the construction on the Ballard Bridge.

Dated: December 23, 2014.
Steven M. Fischer,
Bridge Administrator, Thirteenth Coast Guard District.

[FR Doc. 2015-00174 Filed 1-8-15; 8:45 am]

BILLING CODE 9110-04-P